DEPARTMENT OF TRANSPORTATION

Surface Transportation Board

[STB Finance Docket No. 35087]

Canadian National Railway Company and Grand Trunk Corporation—Control—EJ&E West Company; Notice Extending the Public Scoping Period

AGENCY: Surface Transportation Board, Department of Transportation.

ACTION: Notice extending the public scoping period.

SUMMARY: The Surface Transportation Board's Section of Environmental Analysis (SEA) announces the extension of the scoping period for the Environmental Impact Statement (EIS) that is being prepared in connection with an application filed by Canadian National Railroad Company (CN) to acquire certain rail lines of the Elgin, Joliet & Eastern Railroad (EJ&E). SEA is preparing an EIS because the Surface Transportation Board has determined that the proposed acquisition has the potential to result in significant effects upon the environment within the meaning of the National Environmental Policy Act of 1969 (NEPA).

DATES: The scoping period on the EIS is extended through February 15, 2008.

ADDRESSES: If you wish to submit written comments regarding the attached proposed draft scope, please send your comments to: Surface Transportation Board, 395 E Street, SW., Washington, DC 20423. Attention: Phillis Johnson-Ball, Environmental Filing, STB Finance Docket No. 35087.

Environmental comments may also be filed electronically on the Board's Web site, http://www.stb.dot.gov, by clicking on the “E_FILING” link. You do not need a Login Account to submit Environmental Comments. Simply click on “Environmental Comments,” which will take you to the comment screen. Add the Docket number, which is “FD 35087.” Select “Phillis Johnson-Ball” in the drop down list under “attention of.” Then complete the form by adding your name, address, phone and email, then click “Submit.”

You may also call your comments into SEA's toll-free hotline established for this proceeding. Dial 1-800-347-0689 and leave your comments after the tone. Please refer to STB Finance Docket No. 35087 in all correspondence, including E-filings, addressed to the Board.

Following these directions will help ensure that your comments are considered in the environmental review process for this proposed acquisition. In addition, SEA will add your name to its mailing list for distribution of the final scope of the EIS, the DEIS, and Final EIS (FEIS).

FOR FURTHER INFORMATION CONTACT: Ms. Phillis Johnson-Ball, SEA Project Manager, toll-free at 1-800-347-0689 (TDD for the hearing impaired 1-800-877-8339). The Web site for the Surface Transportation Board is http://www.stb.dot.gov. This document is available in English and Spanish by calling the toll-free number at 1-800-347-0689.

SUPPLEMENTARY INFORMATION: On October 30, 2007, Canadian National Railway Corporation (CN) and Grand Trunk Corporation (GTC), a noncarrier holding company through which CN controls its U.S. rail subsidiaries, filed an application with the Surface Transportation Board (Board) seeking the Board's approval of the acquisition of control of EJ&E West Company (EJ&EW), a wholly owned noncarrier subsidiary of Elgin, Joliet and Eastern Railway Company (EJ&E). In this document, the action before the Board will be referred to as the proposal or the proposed acquisition and CN and GTC will be referred to collectively as CN or as Applicants.

CN is one of Canada's two major railroads, extending from Halifax, Nova Scotia, to Vancouver and Prince Rupert, British Columbia. EJ&E is a Class II railroad that currently operates over 198 miles of track in northeastern Illinois and northwestern Indiana, consisting primarily of an arc around Chicago, IL, extending from Waukegan, IL, southwards to Joliet, IL, then eastward to Gary, IN, and then northwest to South Chicago along Lake Michigan. EJ&E provides rail service to approximately 100 customers, including steel mills, coal utilities, plastics and chemical producers, steel processors, distribution centers, and scrap processors.

Applicants' proposed acquisition of the EJ&E would shift rail traffic currently moving over CN's rail lines inside the EJ&E arc in Chicago to the EJ&E, which traverses the suburbs generally to the west and south of Chicago. Rail traffic on CNR lines inside the EJ&E arc would generally decrease. The decreases in rail traffic would be offset by increases in the number of trains operating on the EJ&E rail line outside of Chicago (approximately 15-27 more trains would operate on various segments of the EJ&E). Applicants also proposed to construct six new rail connections and approximately 19 miles of new sidings/double tracking. Applicants give three primary reasons for seeking approval of the proposed acquisition: Improved rail operations in the Chicago area; availability to EJ&E's Kirk Yard in Gary, Indiana, and other smaller facilities in Joliet, Illinois, and Whiting, Indiana; and improved service to companies dealing in steel, chemicals, and petrochemicals, as well as Chicago area utilities.

Because this proposal has the potential to result in significant environmental impacts, the Board has determined that the preparation of an Environmental Impact Statement (EIS) is appropriate. To help determine the scope of the EIS, and as required by the Board's regulations at 49 CFR 1105.10(a)(2), SEA published in the Federal Register and made available to the public on December 21, 2008, the Notice of Availability of Draft Scope of Study for the EIS, Notice of Scoping Meetings, and Request for Comments. SEA held seven public scoping meetings in the project area between on January 9 and 22, 2008. The scoping comment period originally concluded February 1, 2008, but, in response to requests, SEA is extending the scoping period an additional 14 days, to February 15, 2008.

Decided: January 30, 2008.
By the Board, Victoria J. Rutson, Chief, Section of Environmental Analysis.
Anne K. Quinlan,
Acting Secretary.

[FR Doc. E8-1859 Filed 1-30-08; 8:45 am]

BILLING CODE 4915-01-P